DEPARTMENT OF TRANSPORTATION

Coast Guard

[USCG 2000-8252]

Collection of Information Under Review by Office of Management and Budget (OMB): OMB Control Numbers 2115-0012 and 2115-0518

AGENCY: Coast Guard, DOT.

ACTION: Request for comments.

SUMMARY: In compliance with the Paperwork Reduction Act of 1995, the Coast Guard intends to seek the approval of OMB for the renewal of two Information Collection Requests (ICRs). The ICRs comprise (1) U.S. Coast Guard Academy—Preliminary Application and Supplemental Forms and (2) International Oil Pollution Prevention Certificate. Before submitting the ICRs to OMB, the Coast Guard is requesting comments on the items described below.

DATES: Comments must reach the Coast Guard on or before January 16, 2001.

ADDRESSES: You may mail comments to the Docket Management System (DMS) [USCG 2000-8252], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains these public docket for this requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-9330, for questions on the docket.

Request for Comments

The Coast Guard encourages interested persons to submit written comments. Persons submitting comments should include their names and addresses, identify this document [USCG 2000-8252], and give the reason for the comments. Please submit all comments and attachments in an unbound format no larger than 8½ by 11 inches, suitable for copying and electronic filing. Persons wanting acknowledgment of receipt of comments should enclose stamped, self-addressed postcards or envelopes.

Information Collection Request

1. Title: U.S. Coast Guard Academy—Preliminary Application and Supplemental Forms.

OMB Control Number: 2115-0012.

Summary: Any person who wishes to compete for an appointment as a Coast Guard Cadet must fill out a Preliminary Application and Supplemental Forms.

Need: 14 U.S.C. 211 authorizes the Superintendent of the U.S. Coast Guard Academy to ensure that qualified people have every opportunity to compete for appointments as cadets.

Respondents: Men and women between the ages of 17 and 22.

Frequency: As needed.

Burden Estimate: The estimated burden is 6,640 hours annually.

2. Title: International Oil Pollution Prevention Certificate.

OMB Control Number: 2115-0518.

Summary: The information collected aids in the prevention of pollution from ships. An International Oil Pollution Prevention Certificate and other records serve to verify vessels' compliance with certain international and domestic rules on shipping.

Need: 33 U.S.C. 1901-1915 require that domestic rules implement MARPOL 73/78.

Respondents: Owners and operators of vessels.

Frequency: On occasion and every five years.

Burden Estimate: The estimated burden is 6,858 hours annually.

Dated: November 7, 2000.
S.A. Richardson,
Acting, Director of Information and Technology.

[FR Doc. 00-29422 Filed 11-16-00; 8:45 am]

BILLING CODE 4910-15-U